DEPARTMENT OF ENERGY

Federal Energy Regulatory Commission

Notice of Effectiveness of Exempt Wholesale Generator Status

September 10, 2009.

EC&R Papalote Creek I, LLC | EG09-39-000
Stony Creek Wind Farm, LLC | EG09-40-000
Conectiv Vineland Solar, LLC | EG09-41-000
Astoria Energy II LLC | EG09-42-000
Hoosier Wind Project, L.L.C | EG09-43-000
Lost Lakes Wind Farm LLC | EG09-44-000
Blue Canyon Windpower V LLC | EG09-45-000
Lost Creek Wind, LLC | EG09-46-000
Meadow Lake Wind Farm LLC | EG09-47-000
Meadow Lake Wind Farm II LLC | EG09-48-000
Blackstone Wind Farm, LLC | EG09-49-000
AES Armenia Mountain Wind, LLC | EG09-50-000
Northern Colorado Wind Energy, LLC | EG09-51-000
Escondido Energy Center, LLC | EG09-52-000
Chula Vista Energy Center, LLC | EG09-53-000
Northwest Wind Partners, LLC | EG09-54-000
GenConn Middletown LLC | EG09-55-000
GenConn Devon LLC | EG09-56-000
NaturEner Glacier Wind Energy 2, LLC | EG09-57-000
NaturEner Montana Wind Energy 2, LLC | EG09-58-000
Horse Hollow Generation Tie, LLC | EG09-59-000
Grand Ridge Energy LLC | EG09-60-000
Grand Ridge Energy II LLC | EG09-61-000
Grand Ridge Energy III LLC | EG09-62-000
Grand Ridge Energy IV LLC | EG09-63-000
Grand Ridge Energy V LLC | EG09-64-000
Streator-Cayuga Ridge Wind Power, LLC | EG09-66-000
Wilton Wind II, LLC | EG09-67-000
Orange Grove Energy, L.P | EG09-68-000

Take notice that during the month of July/August, 2009, the status of the above-captioned entities as Exempt Wholesale Generators became effective by operation of the Commission's regulations 18 CFR 366.7(a).

Kimberly D. Bose,
Secretary.

[FR Doc. E9-22468 Filed 9-17-09; 8:45 am]

BILLING CODE 6717-01-P